NATIONAL SCIENCE FOUNDATION

Committee Management Notice of Reestablishment

The Deputy Director of the National Science Foundation has determined that the reestablishment of the Oversight Council for the International Arctic Research Center is necessary and in the pubic interest in connection with the performance of the duties imposed upon the National Science Foundation (NSF) by 42 USC 1861 et seq. This determination follows consultation with the Committee Management Secretariat, General Services Administration.

Name of Committee: Oversight Council for the International Arctic Research Center (9535).

Nature/Purpose: The Oversight Council will advise NSF and the University of Alaska, Fairbanks on scientific, policy, and management issues relating to the operation of the IARC. The Oversight Council will review annual program plans of the IARC before submission to NSF.

Responsible NSF Official: Thomas Pyle, Head, Arctic Science Section, Office of Polar Programs, National Science Foundation, 4201 Wilson Boulevard, Suite 755, Arlington, VA 22230. Telephone: 703/292-8030.

Dated: February 26, 2004.
Susanne E. Bolton,
Committee Management Officer.

[FR Doc. 04-4593 Filed 3-1-04; 8:45 am]

BILLING CODE 7555-01-M